DEPARTMENT OF TRANSPORTATION

Federal Aviation Administration

14 CFR Chapter 1

[Docket No. FAA-2012-0658]

Proposed Policy Clarification for the Registration of Aircraft to U.S. Citizen Trustees in Situations Involving Non-U.S. Citizen Trustors and Beneficiaries; Correction

AGENCY: Federal Aviation Administration (FAA).

ACTION: Proposed Policy; Availability of Documents for Inspection and Extension of Time in which to Submit Written Comments; Correction.

SUMMARY: The Federal Aviation Administration is correcting a document published on June 26, 2012 (77 FR 38016). That document extended the comment period on its proposed policy regarding the registration of aircraft to U.S. citizen trustees in situations involving non-U.S. citizen trustors and beneficiaries. This document revises the SUPPLEMENTARY INFORMATION section of that document. Due to a clerical error, language from a prior document was inadvertently included; this correction is made to provide clarity. Also, this document corrects the Authority cite.

DATES: The FAA is extending the comment period to August 17, 2012.

FOR FURTHER INFORMATION CONTACT: LaDeana Peden at 405 954-3296, Office of Aeronautical Center Counsel, Federal Aviation Administration.

SUPPLEMENTARY INFORMATION:

Corrections

In FR Doc. 2012-15339 published on June 26, 2012, on page 38016, in the third column and page 38017 in the first column, revise the paragraphs in SUPPLEMENTARY INFORMATION to read as follows:

The FAA published a notice in the Federal Register on February 9, 2012 (77 FR 6694), proposing to clarify its policy regarding the registration of aircraft to U.S. citizen trustees in situations involving non-U.S. citizen trustors and beneficiaries. The notice requested that interested parties submit written comments on the proposed policy clarification by March 31, 2012. In a notice published on March 14, 2012 (77 FR 15180), the FAA scheduled a public meeting on the proposed policy clarification for June 6, 2012, in Oklahoma City, Oklahoma, and extended the deadline for written comments until July 6, 2012.

During the June 6 public meeting, among the comments received were several suggestions that additional time would be needed to prepare comprehensive written comments on the FAA's proposed policy clarification. The FAA agrees that additional time for the submission of comments would be helpful, and therefore has decided to extend the comment period until August 17, 2012. The FAA expects that the comments received through the end of the extended comment period and during the public meeting will enable it to determine what steps it should take next in addressing the trust registration issue, including the development of a final policy clarification.

Comments should be sent by email to ladeana.peden@faa.gov. Comments received by FAA may be viewed at the Office of Chief Counsel's FAA Web site located at http://www.faa.gov/about/office_org/headquarters_offices/agc/.

Authority: 49 U.S.C. 106(g), 40113, 44102, 44103.

Issued in Oklahoma City, Oklahoma on June 29, 2012.
Joseph R. Standell,
Aeronautical Center Counsel.

[FR Doc. 2012-16719 Filed 7-6-12; 8:45 am]

BILLING CODE 4910-13-P